FEDERAL COMMUNICATIONS COMMISSION

Network Reliability and Interoperability Council Meeting; Cancellation of Meeting.

AGENCY: Federal Communications Commission.

ACTION: Notice of cancellation of public meeting.

SUMMARY: This notice advises interested persons that the meeting of the Network Reliability and Interoperability Council scheduled for June 14, 2002 has been cancelled. The next meeting of the Network Reliability and Interoperability Council will be held in the Commission meeting room, 445 12th Street, SW., Washington, DC on Friday, September 13, from 10 a.m. to 1 p.m.

FOR FURTHER INFORMATION CONTACT: Jeff Goldthorp at 202-418-1096 or TTY 202-418-2989.

Federal Communications Commission.
Marlene H. Dortch,
Secretary.

[FR Doc. 02-14258 Filed 6-5-02; 8:45 am]

BILLING CODE 6712-01-P